DEPARTMENT OF DEFENSE

Department of the Navy

Notice of Public Hearings for the Draft Environmental Impact Statement (DEIS) for Introduction of the P-8A Multi-Mission Maritime Aircraft (MMA) Into the United States Fleet

AGENCY: Department of the Navy, DoD.

ACTION: Notice.

SUMMARY: Pursuant to Section 102(2)(C) of the National Environmental Policy Act (NEPA) of 1969, as implemented by the Council on Environmental Quality Regulations (40 CFR Parts 1500-1508), the Department of the Navy (Navy) has prepared and filed with the U.S. Environmental Protection Agency (EPA) a Draft Environmental Impact Statement (DEIS) to evaluate the potential environmental consequences associated with providing facilities and functions to support the homebasing of P-8A MMA at established maritime patrol installations. Public hearings will be held to provide information and receive oral and written comments on the DEIS. Federal, state, and local agencies, and interested individuals are invited to be present or represented at the hearings.

DATES AND ADDRESSES: Four public hearings will be held. Each scheduled public hearing will be preceded by an open information session to allow interested individuals to review information presented in the DEIS. Navy representatives will be available during the information session to provide clarification as necessary related to the DEIS. Each information session will occur from 4:30 p.m. to 6:30 p.m., followed by the formal public hearing from 7 p.m. to 9 p.m. Public hearings are scheduled at the following dates and locations:

1. Whidbey Island, Washington: Wednesday, March 26, 2008, Oak Harbor School District Office, ASC Boardroom, 350 S. Oak Harbor Street, Oak Harbor, WA 98277.

2. Honolulu, Hawaii: Tuesday, April 1, 2008, J.B. Castle High School, 45-386 Kaneohe Bay Drive, Kaneohe, HI 96744.

3. Coronado, California: Thursday, April 3, 2008, Early Childhood Development Center, Crown Hall, 199 Sixth Street, Coronado, CA 92118.

4. Jacksonville, Florida: Wednesday, April 9, 2008, Howard Johnson Inn, Clay Duval Room, 150 Park Avenue, Orange Park, FL 32073.

FOR FURTHER INFORMATION CONTACT: Commander, Naval Facilities Engineering Command Atlantic Division, 6506 Hampton Blvd, Norfolk, VA 23508-1278, Attn: MMA PM, fax 757-322-4805.

SUPPLEMENTARY INFORMATION: Navy has prepared and filed with the EPA the DEIS for the introduction of P-8A MMA into the U.S. Fleet in accordance with requirements of the National Environmental Policy Act (NEPA) of 1969 (42 U.S.C. Sections 4321-4345) and its implementing regulations (40 CFR Parts 1500-1508). A Notice of Intent for this DEIS was published in the Federal Register on December 27, 2006 (FR27DE06-48). Navy is lead agency for the proposed action. The purpose of the proposed action is to provide facilities and functions to support the homebasing of P-8A MMA at established maritime patrol homebases. This would allow the Navy to efficiently and economically retire P-3C aircraft and transition P-8A MMA into the Fleet while maintaining a maritime patrol capability that sustains national defense objectives and policies.

The Navy proposes to replace maritime patrol P-3C aircraft with P-8A MMA at established P-3C maritime patrol installations beginning no later than 2012. Established maritime patrol installations are Naval Air Station (NAS) Jacksonville, Florida; NAS Whidbey Island, Washington; NAS Brunswick, Maine; NAS North Island, California; and Marine Corps Base Hawaii (MCBH) Kaneohe Bay. However, for the purposes of the proposed action, NAS Brunswick has been eliminated from consideration as a potential homebase because its aircraft and supporting functions are being transferred in their entirety to NAS Jacksonville by 2011 in accordance with the recommendations of the 2005 Base Closure and Realignment Commission (BRAC).

Introduction of the P-8A MMA would begin no later than 2012 and is scheduled to be complete by 2019, when full P-3C retirement from the Fleet is to occur.

The following installations have been identified as receiving sites for the P-8A MMA: NAS Whidbey Island, Washington; NAS Jacksonville, Florida; MCBH Kaneohe Bay, Hawaii; and a training detachment site at NAS North Island, California. The Navy evaluated a range of alternatives in the DEIS based on the number of squadrons homebased at each site, placement of the Fleet Replacement Squadron (FRS), and the number of main operating bases.

The EIS addresses environmental impacts of the proposed action pertaining to the basing and operation of P-8A MMA and the associated construction and/or renovation of buildings and other support facilities. In addition, the EIS assesses impacts on each local community and economy associated with relocation of military and contract personnel to or from the area to support the operation and maintenance of P-8A MMA squadrons.

The EIS addresses any potential environmental impacts associated with: Water resources; air quality; biological resources; threatened and endangered species; land use; noise exposure levels; socioeconomic resources; infrastructure; and cultural resources. The analyses include direct and indirect impacts, and account for cumulative impacts from other foreseen federal activities at the homebase and detachment sites.

The Navy conducted the scoping process to identify community concerns and local issues that should be addressed in the EIS. Federal, state, and local agencies and interested parties provided written comments to the Navy and identified specific issues or topics of environmental concern that should be addressed in the EIS. The Navy considered these comments in determining the scope of the EIS.

The DEIS has been distributed to various Federal, state, and local agencies, as well as other interested individuals and organizations. In addition, copies of the DEIS have been distributed to the following libraries and publicly accessible facilities for public review:

1. Oak Harbor City Library, 1000 SE Regatta Drive, Oak Harbor, WA.

2. Coronado Public Library, 640 Orange Avenue, Coronado, CA.

3. Charles Webb Wesconnett Regional Branch, Jacksonville Public Library, 6887 103rd Street, Jacksonville, FL.

4. Kaneohe Public Library, 45-829 Kamehameha Highway, Honolulu, HI.

An electronic copy of the DEIS is available for public viewing at http://www.MMAEIS.com. Requests for single copies of the DEIS (on CD-ROM) or its Executive Summary may be made online at http://www.MMAEIS.com. Federal, state, and local agencies, as well as interested parties, are invited and encouraged to be present or represented at the hearings. To ensure the accuracy of the record, all statements presented orally at the public hearings should be submitted in writing. All comments will become part of the public record and will be responded to in the Final Environmental Impact Statement (FEIS). Equal weight will be given to oral and written statements. In the interest of available time, and to ensure all who wish to give an oral statement at the public hearings have the opportunity to do so, each speaker's comments will be limited to three minutes. If a longer statement is to be presented, it should be summarized at the public hearing and the full text submitted in writing either at the hearing or mailed or faxed to:

Commander, Naval Facilities Engineering Command Atlantic, Attn: MMA PM, 6506 Hampton Blvd., Norfolk, VA 23508-1278, Fax 757-322-4805.

Residents from the county where the public hearing is being held will be given first priority to speak publicly, to ensure that county's residents have an opportunity to make verbal comments. Residents will be required to sign in to speak. Comments can be made in the following ways: (1) Oral statements/written comments at the public hearings or (2) written comments mailed or faxed to address/fax number in this notice or (3) comments submitted via the Web site at http://www.MMAEIS.com. All written comments postmarked by April 18, 2008, will become a part of the official public record and will be responded to in the FEIS.

Dated: February 29, 2008.
T.M. Cruz,
Lieutenant, Office of the Judge Advocate General, U.S. Navy Federal Register Liaison Officer.

[FR Doc. E8-4468 Filed 3-6-08; 8:45 am]

BILLING CODE 3810-FF-P